DEPARTMENT OF HEALTH AND HUMAN SERVICES

Administration for Children and Families

Proposed Information Collection Activity; Refugee Cash and Medical Assistance Federal Financial Report ORR-2 Supplemental Data Collection (OMB #: 0970-0510)

AGENCY: Office of Refugee Resettlement, Administration for Children and Families, U.S. Department of Health and Human Services.

ACTION: Request for public comments.

SUMMARY: The Administration for Children and Families' (ACF) Office of Refugee Resettlement (ORR) plans to submit a generic information collection (GenIC) request under the following umbrella generic: Generic Clearance for Financial Reports used for ACF Mandatory Grant Programs (0970-0510). This request is to include instructions for ORR Refugee Cash and Medical Assistance (CMA) grant recipients to provide supplemental financial information when submitting the already required ORR-2 Financial Report, which is approved under Office of Management and Budget (OMB) number 0970-0407.

DATES: Comments due within 14 days of publication. In compliance with the requirements of the Paperwork Reduction Act of 1995, ACF is soliciting public comment on the specific aspects of the information collection described above and below.

ADDRESSES: Copies of the proposed collection of information can be obtained and comments may be forwarded by emailing infocollection@acf.hhs.gov. All requests should be identified by the title of the information collection.

SUPPLEMENTARY INFORMATION:

Description: ACF programs require detailed financial information from their grantees that allows ACF to monitor various specialized cost categories within each program to closely manage program activities and to have sufficient financial information to enable periodic thorough and detailed audits. The Generic Clearance for Financial Reports used for ACF Mandatory Grant Programs allows ACF programs to efficiently develop and receive approval for financial reports that are tailored to specific funding recipients and the associated needs of the program. For more information about the umbrella generic, see: https://www.reginfo.gov/public/do/PRAViewICR?ref_nbr=202303-0970-002.

This specific GenIC request applies to all ORR Refugee Cash and Medical Assistance grantees awarded traditional base funding as well as funding received under the Afghanistan Supplemental Appropriations Act, 2022 (ASA), and the Ukraine Supplemental Appropriations Act, 2022, and other appropriations as communicated. All grantees must complete reporting in accordance with statute. Currently, grantees use the ORR-2 (OMB #: 0970-0407) to report federal expenditures by program categories such as refugee cash assistance and refugee medical assistance. The ORR-2 requests grantees to report on the various program categories totaling expenditures, unliquidated obligations, and unobligated balances. ORR is proposing to request that grantees break out unobligated balances reported on the final ORR-2 financial report by funding source (base, ASA, Ukraine) and financial account number as referenced on the Notice of Award as a Word or Excel attachment to upload (with the ORR-2 report) in the Online Line Data Collection via the designated link. This final report is due September 30th. The proposed supplemental instructions will provide guidance and assist grantees with submitting the additional detail about Federal expenditure data reported on the ORR-2. The analysis of this data would further support adherence to program requirements.

Respondents: States, State Agency Grantee Designees.

Annual Burden Estimates
Title of information collection | Number of respondents | Annual frequency of responses | Hourly burden per response | Annual hourly burden
RSS SF-425 Supplemental Data Collection | 66 | 1 | 1.67 | 110

Comments: The Department specifically requests comments on (a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 14 days of this publication.

Authority: Section 412(c)(1)(A) of the Immigration and Nationality Act (8 U.S.C. 1522(c)(1)(A)).

Mary B. Jones,
ACF/OPRE Certifying Officer.

[FR Doc. 2023-11479 Filed 5-30-23; 8:45 am]

BILLING CODE 4184-89-P